DEPARTMENT OF TRANSPORTATION

Federal Aviation Administration

Notice of Schedule Information Submission Deadline for O'Hare International Airport, San Francisco International Airport, John F. Kennedy International Airport, and Newark Liberty International Airport for the Winter 2014-2015 Scheduling Season

AGENCY: Federal Aviation Administration (FAA), Department of Transportation.

ACTION: Notice of submission deadline.

SUMMARY: Under this notice, the FAA announces the submission deadline of May 8, 2014, for Winter 2014-2015 flight schedules at Chicago's O'Hare International Airport (ORD), San Francisco International Airport (SFO), New York's John F. Kennedy International Airport (JFK), and Newark Liberty International Airport (EWR) in accordance with the International Air Transport Association (IATA) Worldwide Slot Guidelines. The deadline coincides with the schedule submission deadline for the IATA Slot Conference for the Winter 2014-2015 scheduling season.

DATES: Schedules must be submitted no later than May 8, 2014.

ADDRESSES: Schedules may be submitted by mail to the Slot Administration Office, AGC-200, Office of the Chief Counsel, 800 Independence Ave. SW., Washington, DC 20591; by facsimile to: 202-267-7277; or by email to: 7-AWA-slotadmin@faa.gov.

FOR FURTHER INFORMATION CONTACT: Robert Hawks, Office of the Chief Counsel, Federal Aviation Administration, 800 Independence Avenue SW., Washington, DC 20591; telephone number: 202-267-7143; fax number: 202-267-7971; email: rob.hawks@faa.gov.

SUPPLEMENTARY INFORMATION: The FAA has designated ORD as an IATA Level 2 airport, SFO as a Level 2 airport, JFK as a Level 3 airport, and EWR as a Level 3 airport. Scheduled operations at JFK and EWR are currently limited by FAA Orders until a final Congestion Management Rule for LaGuardia Airport, John F. Kennedy International Airport, and Newark Liberty International Airport (RIN 2120-AJ89) becomes effective but not later than October 29, 2016.¹

¹ Operating Limitations at John F. Kennedy International Airport, 73 FR 3510 (Jan. 18, 2008) as amended by publication in today's Federal Register; Operating Limitations at Newark Liberty International Airport, 73 FR 29550 (May 21, 2008) as amended by publication in today's Federal Register.

The FAA is primarily concerned about planned passenger and cargo operations during peak hours, but carriers may submit schedule plans for the entire day. At ORD, the peak hours are 0700 to 2100 Central Time (1300 to 0300 UTC), at SFO from 0600 to 2300 Pacific Time (1400 to 0700 UTC), and at EWR and JFK from 0600 to 2300 Eastern Time (1100 to 0400 UTC). Carriers should submit schedule information in sufficient detail including, at minimum, the operating carrier, flight number, scheduled time of arrival or departure, frequency, and effective dates. IATA standard schedule information format and data elements (Standard Schedules Information Manual or SSIM) may be used.

The U.S. winter scheduling season for these airports is from October 26, 2014, through March 28, 2015, in recognition of the IATA northern winter period. The FAA understands there may be differences in schedule times due to different U.S. daylight saving time dates, and the FAA will accommodate these differences to the extent possible.

Issued in Washington, DC, on March 24, 2014.
Mark W. Bury,
Assistant Chief Counsel for International Law, Legislation, and Regulations.

[FR Doc. 2014-06797 Filed 3-26-14; 8:45 am]

BILLING CODE 4910-13-P